DEPARTMENT OF COMMERCE

National Oceanic and Atmospheric Administration

50 CFR Part 665

[Docket No. 070427093-7093-01; I.D. 041807A]

RIN 0648-AV55

Fisheries in the Western Pacific; Western Pacific Pelagic Fisheries; Control Date

AGENCY: National Marine Fisheries Service (NMFS), National Oceanic and Atmospheric Administration (NOAA), Commerce.

ACTION: Advance notice of proposed rulemaking; notification of control date; request for comments.

SUMMARY: NMFS announces that anyone who enters the Hawaii-based pelagic charter fishery after March 16, 2007 (the “control date”), is not guaranteed future participation in the fishery if the Western Pacific Fishery Management Council (Council) recommends, and NMFS approves, a program that limits entry into the fishery, or other fishery management measures. The Council is concerned about expansion of the Hawaii-based pelagic charter fishery and the potential resultant impacts on billfish and other pelagic fishes.

DATES: Comments must be submitted in writing by July 10, 2007.

ADDRESSES: You may submit comments on this action, identified by 0648-AV55, by any of the following methods:

• E-mail: AV55ControlCharter@noaa.gov. Include “AV55” in the subject line of the e-mail comment. Comments sent via e-mail, including all attachments, must not exceed a 10 megabyte file size.

• Federal e-Rulemaking portal: www.regulations.gov. Follow the instructions for submitting comments.

• Mail: William L. Robinson, Regional Administrator, NMFS Pacific Islands Region (PIR), 1601 Kapiolani Blvd., Suite 1110, Honolulu, HI 96814.

FOR FURTHER INFORMATION CONTACT: Bob Harman, NMFS PIR, 808-944-2234.

SUPPLEMENTARY INFORMATION: At its 137th meeting held from March 13-16, 2007, the Council adopted a control date of March 16, 2007, applicable to persons who are contemplating entering the Hawaii-based charter fishery for pelagic fishes. The purpose of the control date is to notify fishermen that after March 16, 2007, they may not be guaranteed access to the fishery if the Council recommends, and NMFS approves, establishing a limited entry program or other measures to manage the fishery. The Council has not yet recommended limiting new entry or imposing any other management measures in this fishery.

Establishment of a control date responds to the Council's concern over any significant expansion of the Hawaii-based pelagic charter fishery, and its potential to impact billfish and other pelagic fishes. This concern is focused on the Kona coast of the island of Hawaii, where there is a planned expansion of the Honokohau Harbor. A larger harbor could provide more berths for charter fishing vessels, with a resulting increase in fishing effort for pelagic fishes, such as blue marlin (Makaira mazara). State of Hawaii fishery data indicate that blue marlin catch per unit effort from Kona-based pelagic charter fishing has declined significantly over the past 20 years. Similar trends are also apparent for pelagic charter fishing data from the other Hawaiian islands.

Pelagic charter fishing, conducted from small vessels that primarily target billfishes and tunas and are chartered for a fee, is a notable component of tourism in Hawaii. Total generated revenues were estimated at $17 million in 1990, and $16.5 million in 1992. The industry attracted an estimated 77,000 annual participants in 1994, and employed approximately 400 captains and crew members in 1997. Because at least a portion of the catch is typically sold, pelagic charter fishing in Hawaii is classified as a commercial fishery, requiring State of Hawaii commercial marine licenses and catch reporting. The State of Hawaii issued 121 commercial marine licenses to vessels for pelagic charter fishing in 2005, and the reported catch from pelagic charter vessels in 2005 was 478,650 lb (217,112 kg). In 2006, 119 licensed fishermen submitted fishing reports that reported a total of 9,535 charter trips, or an average of 80.1 trips per vessel.

The March 16, 2007, control date adopted by the Council complements a control date of June 2, 2005, established for non-longline commercial pelagic fisheries in Hawaii (70 FR 47781, August 15, 2005) in response to concerns about overfishing of bigeye tuna Pacific-wide and yellowfin tuna in the central and western Pacific.

Control dates are intended to discourage speculative entry into fisheries, as new participants entering the fisheries after the control date are put on notice that they are not guaranteed future participation in the fisheries. Establishment of this control date does not commit the Council or NMFS to any particular management regime or criteria for entry into the Hawaii-based pelagic charter fishery. Fishermen are not guaranteed future participation in the fishery, regardless of their level of participation before or after the control date. The Council may choose a different control date, or it may choose a management regime that does not involve a control date. Other criteria, such as documentation of landings or sales, may be used to determine eligibility for participation in a limited access fishery. The Council or NMFS also may choose to take no further action to control entry or access to the fishery, in which case the control date may be rescinded.

Classification

This advance notice of proposed rulemaking has been determined to be not significant for the purposes of Executive Order 12866.

Authority: 16 U.S.C. 1801 et seq.

Dated: May 7, 2007.
William T. Hogarth,
Assistant Administrator for Fisheries, National Marine Fisheries Service.

[FR Doc. E7-9090 Filed 5-10-07; 8:45 am]

BILLING CODE 3510-22-S